DEPARTMENT OF ENERGY

Federal Energy Regulatory Commission

Combined Notice of Filings #1

Take notice that the Commission received the following electric rate filings:

Docket Numbers: ER10-1651-003.

Applicants: Golden State Water Company.

Description: Updated Market Power Analysis of Golden State Water Company.

Filed Date: 6/28/16.

Accession Number: 20160628-5266.

Comments Due: 5 p.m. ET 8/29/16.

Docket Numbers: ER10-2882-025; ER10-2886-025; ER13-1101-020; ER13-1541-019; ER14-661-011; ER14-787-013; ER15-54-005; ER15-55-005; ER15-1475-006; ER15-2593-005; ER16-452-005; ER16-705-003; ER16-706-003.

Applicants: RE Garland LLC, RE Garland A LLC, RE Tranquillity LLC, Desert Stateline LLC, North Star Solar, LLC, Lost Hills Solar, LLC, Blackwell Solar, LLC, Macho Springs Solar, LLC, SG2 Imperial Valley LLC, Campo Verde Solar, LLC, Spectrum Nevada Solar, LLC, Southern Turner Cimarron I, LLC, Southern Power Company.

Description: Triennial Market Power Update for Southwest Region of Southern Power Company, et al.

Filed Date: 6/28/16.

Accession Number: 20160628-5269.

Comments Due: 5 p.m. ET 8/29/16.

Docket Numbers: ER10-3140-024.

Applicants: Inland Empire Energy Center, LLC.

Description: Triennial Market Power Analysis of Inland Empire Energy Center, LLC.

Filed Date: 6/28/16.

Accession Number: 20160628-5265.

Comments Due: 5 p.m. ET 8/29/16.

Docket Numbers: ER10-3300-013.

Applicants: La Paloma Generating Company, LLC.

Description: Supplement to April 26, 2016 Notice of Change in Status of La Paloma Generating Company, LLC.

Filed Date: 6/28/16.

Accession Number: 20160628-5271.

Comments Due: 5 p.m. ET 7/19/16.

Docket Numbers: ER16-341-001; ER16-343-001; ER16-498-001; ER16-499-001; ER16-500-001; ER16-645-001.

Applicants: RE Astoria LLC, RE Astoria 2 LLC, RE Mustang LLC, RE Mustang 3 LLC, RE Mustang 4 LLC, RE Barren Ridge 1 LLC.

Description: Triennial Market Power Analysis for Southwest Region of the Recurrent MBR Sellers, et al.

Filed Date: 6/28/16.

Accession Number: 20160628-5277.

Comments Due: 5 p.m. ET 8/29/16.

Docket Numbers: ER16-1635-002.

Applicants: Arizona Public Service Company.

Description: Tariff Amendment: Rate Schedule No. 281 to be effective 7/6/2016.

Filed Date: 6/28/16.

Accession Number: 20160628-5240.

Comments Due: 5 p.m. ET 7/19/16.

Docket Numbers: ER16-1644-001; ER14-608-001.

Applicants: MRP Generation Holdings, LLC, High Desert Power Project, LLC.

Description: Updated Market Power Analysis for the Southwest Region of MRP Generation Holdings, LLC, et al.

Filed Date: 6/28/16.

Accession Number: 20160628-5274.

Comments Due: 5 p.m. ET 8/29/16.

Docket Numbers: ER16-2048-000.

Applicants: Exelon West Medway II, LLC.

Description: Baseline eTariff Filing: Certificate of Concurrence Filing to be effective 10/1/2016.

Filed Date: 6/28/16.

Accession Number: 20160628-5243.

Comments Due: 5 p.m. ET 7/19/16.

Docket Numbers: ER16-2049-000.

Applicants: Southwest Power Pool, Inc.

Description: § 205(d) Rate Filing: 1888R5 Westar Energy, Inc. NITSA and NOA to be effective 9/1/2016.

Filed Date: 6/29/16.

Accession Number: 20160629-5007.

Comments Due: 5 p.m. ET 7/20/16.

Docket Numbers: ER16-2050-000.

Applicants: Southwest Power Pool, Inc.

Description: § 205(d) Rate Filing: 3208 WAPA-UGP and Otter Tail Power Company Att AO to be effective 6/1/2016.

Filed Date: 6/29/16.

Accession Number: 20160629-5008.

Comments Due: 5 p.m. ET 7/20/16.

Docket Numbers: ER16-2051-000.

Applicants: Southwest Power Pool, Inc.

Description: § 205(d) Rate Filing: 3181 Basin Electric and Otter Tail Power Attachment AO to be effective 6/1/2016.

Filed Date: 6/29/16.

Accession Number: 20160629-5018.

Comments Due: 5 p.m. ET 7/20/16.

Docket Numbers: ER16-2052-000.

Applicants: Southwest Power Pool, Inc.

Description: § 205(d) Rate Filing: 1885R5 Westar Energy, Inc. NITSA and NOA (Bronson) to be effective 9/1/2016.

Filed Date: 6/29/16.

Accession Number: 20160629-5037.

Comments Due: 5 p.m. ET 7/20/16.

Docket Numbers: ER16-2053-000.

Applicants: Southwest Power Pool, Inc.

Description: § 205(d) Rate Filing: 1891R5 Westar Energy, Inc. NITSA and NOA (Mulberry) to be effective 9/1/2016.

Filed Date: 6/29/16.

Accession Number: 20160629-5038.

Comments Due: 5 p.m. ET 7/20/16.

Docket Numbers: ER16-2054-000.

Applicants: Southwest Power Pool, Inc.

Description: § 205(d) Rate Filing: 1892R5 Westar Energy, Inc. NITSA and NOA (Robinson) to be effective 9/1/2016.

Filed Date: 6/29/16.

Accession Number: 20160629-5039.

Comments Due: 5 p.m. ET 7/20/16.

Docket Numbers: ER16-2055-000.

Applicants: Southwest Power Pool, Inc.

Description: § 205(d) Rate Filing: 1893R5 Westar Energy, Inc. NITSA and NOA (Savonburg) to be effective 9/1/2016.

Filed Date: 6/29/16.

Accession Number: 20160629-5040.

Comments Due: 5 p.m. ET 7/20/16.

Docket Numbers: ER16-2056-000.

Applicants: Southwest Power Pool, Inc.

Description: § 205(d) Rate Filing: 1895R5 Westar Energy, Inc. NITSA and NOA (Wathena) to be effective 9/1/2016.

Filed Date: 6/29/16.

Accession Number: 20160629-5041.

Comments Due: 5 p.m. ET 7/20/16.

Docket Numbers: ER16-2057-000.

Applicants: Southwest Power Pool, Inc.

Description: § 205(d) Rate Filing: 1897R5 Westar Energy, Inc. NITSA and NOA (Elwood) to be effective 9/1/2016.

Filed Date: 6/29/16.

Accession Number: 20160629-5042.

Comments Due: 5 p.m. ET 7/20/16.

Docket Numbers: ER16-2058-000.

Applicants: Southwest Power Pool, Inc.

Description: § 205(d) Rate Filing: 2066R5 Westar Energy, Inc. NITSA and NOA (Muscotah) to be effective 9/1/2016.

Filed Date: 6/29/16.

Accession Number: 20160629-5048.

Comments Due: 5 p.m. ET 7/20/16.

Docket Numbers: ER16-2059-000.

Applicants: Southwest Power Pool, Inc.

Description: § 205(d) Rate Filing: 1894R5 Westar Energy, Inc. NITSA and NOA (Vermillion) to be effective 9/1/2016.

Filed Date: 6/29/16.

Accession Number: 20160629-5050.

Comments Due: 5 p.m. ET 7/20/16.

Docket Numbers: ER16-2060-000.

Applicants: Southwest Power Pool, Inc.

Description: § 205(d) Rate Filing: 1889R5 Westar Energy, Inc. NITSA and NOA (Mindenmines) to be effective 9/1/2016.

Filed Date: 6/29/16.

Accession Number: 20160629-5057.

Comments Due: 5 p.m. ET 7/20/16.

Docket Numbers: ER16-2061-000.

Applicants: Public Service Company of New Mexico.

Description: Initial rate filing: Executed NITSA and NOA between PNM and Kit Carson Electric Cooperative to be effective 7/1/2016.

Filed Date: 6/29/16.

Accession Number: 20160629-5062.

Comments Due: 5 p.m. ET 7/20/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 29, 2016.
Nathaniel J. Davis, Sr.,
Deputy Secretary.

[FR Doc. 2016-15943 Filed 7-5-16; 8:45 am]

BILLING CODE 6717-01-P